DEPARTMENT OF HEALTH AND HUMAN SERVICES

Centers for Disease Control and Prevention

[30DAY-32-03]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: Outcome Follow-up Survey for CDC's Youth Media Campaign—New—National Center for Chronic Disease Prevention and Health Promotion (NCCDPHP), Centers for Disease Control and Prevention (CDC).

Background

In FY 2001, Congress established the Youth Media Campaign at the Centers for Disease Control and Prevention (CDC). Specifically, the House Appropriations Language said: The Committee believes that, if we are to have a positive impact on the future health of the American population, we must change the behaviors of our children and young adults by reaching them with important health messages. CDC, working in collaboration with federal partners, is coordinating an effort to plan, implement, and evaluate a campaign designed to clearly communicate messages that will help youth develop habits that foster good health over a lifetime. The Campaign is based on principles that have been shown to enhance success, including: designing messages based on research; testing messages with the intended audiences; involving young people in all aspects of Campaign planning and implementation; enlisting the involvement and support of parents and other influencers; refining the messages based on research; and measuring the effect of the campaign on the target audiences.

To measure the effect of the campaign on the target audiences, CDC designed a baseline survey for tween and parent dyads (Children's Youth Media Survey and Parents' Youth Media Survey) that assessed aspects of the knowledge, attitudes, beliefs, and levels of involvement in positive activities of tweens and a parent or guardian. The baseline survey was conducted prior to the launch of the campaign from April 8, 2002 through June 21, 2002. The methodology was to use a panel design and to survey 3000 dyads (3000 parents and 3000 tweens) from a nationally representative sample and to survey 3000 dyads (again 3000 parents and 3000 tweens) from the six “high dose” communities for a total of 6000 dyads or 12,000 respondents. The survey was conducted using random digit dial.

The next steps in the measurement of effects of the campaign is to collect follow-up data one year post baseline survey and two years post baseline survey. The same panel members (minus attrition) of 6000 tween/parent dyads used in the baseline survey—nationally and in the six selected metropolitan areas—would be re-contacted to complete a survey that would be similar to that used at baseline. Items on campaign awareness would be added to the survey to enable segmentation of the respondents by awareness of the campaign. Thus, the data collection would be with approximately 4,200 tween/parent dyads in spring 2003 and 3,350 tween/parent dyads in 2004. The average annualized burden is 2,571 hours.

Respondents | Number of respondents | Number of responses/ respondent | Average burden/ response (in hours)
2003:
Screener | 7,502 | 1 | 1/60
Child | 4,242 | 1 | 20/60
Parent | 4,009 | 1 | 20/60
2004:
Screener | 4,009 | 1 | 1/60
Child | 3,353 | 1 | 20/60
Parent | 3,247 | 1 | 20/60

Dated: February 28, 2003.
Thomas Bartenfeld,
Acting Associate Director for Policy, Planning and Evaluation, Centers for Disease Control and Prevention.

[FR Doc. 03-5396 Filed 3-6-03; 8:45 am]

BILLING CODE 4163-18-P